DEPARTMENT OF HEALTH AND HUMAN SERVICES

[Document Identifier: HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before October 24, 2014.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-New-60D for reference.

Information Collection Request Title: Data Element Survey for the Title X Family Planning Annual Report (FPAR) 2.0

Abstract: The Office of Population Affairs (OPA) within the Office of the Assistant Secretary for Health (OASH), Office of Family Planning (OFP), and this office is requesting Office of Management and Budget (OMB) approval on a new data collection form (data element survey). This survey is intended to collect feedback from the Title X network regarding feasibility, alignment, and potential workflow issues related to encounter-level data collection and the proposed new FPAR 2.0 data elements (the data dictionary). This voluntary form will occur annually and allow the Title X network to offer feedback and guidance that will inform OPA's development of FPAR 2.0. OPA will solicit feedback from Title X agencies to better inform the 2.0 data dictionary, and proposes to make this data collection form available for up to 3 years so that OPA can accept feedback from the network regarding any version changes that might be made to the dictionary.

Likely Respondents: Title X Grantees, Sub recipients, and Service Sites

Total Estimated Annualized Burden—Hours
Form name | Number of respondents | Number of responses per respondent | Average burden per response (in hours) | Total burden hours
Data Element Survey | 818 | 1 | 30/60 | 409
Total |  |  | 30/60 | 409

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2014-20065 Filed 8-22-14; 8:45 am]

BILLING CODE 4150-34-P